DEPARTMENT OF COMMERCE

National Oceanic and Atmospheric Administration

[RTID 0648-XV130]

North Pacific Fishery Management Council; Public Meeting

AGENCY: National Marine Fisheries Service (NMFS), National Oceanic and Atmospheric Administration (NOAA), Commerce.

ACTION: Notice of public meetings of the North Pacific Fishery Management Council and its advisory committees.

SUMMARY: The North Pacific Fishery Management Council (Council) and its advisory committees will meet in December.

DATES: The meetings will be held Monday, December 2, 2019 through Tuesday, December 10, 2019. See SUPPLEMENTARY INFORMATION for specific dates and times.

ADDRESSES:

Meeting Address: The meeting will be held at the Anchorage Hilton Hotel, 500 W 3rd Ave., Anchorage, AK 99501.

Council Address: North Pacific Fishery Management Council, 605 W 4th Ave., Suite 306, Anchorage, AK 99501-2252; telephone (907) 271-2809.

FOR FURTHER INFORMATION CONTACT: Diana Evans, Council staff; telephone: (907) 271-2809.

SUPPLEMENTARY INFORMATION: The Council will begin its plenary session at 8 a.m. in the Aleutian Room on Wednesday, December 4, 2019 continuing through Tuesday, December 10, 2019. The Council's Scientific and Statistical Committee (SSC) will begin at 8 a.m. in the King Salmon/Iliamna Room on Monday, December 2, 2019 and continue through Wednesday, December 4, 2019. The Council's Advisory Panel (AP) will begin at 8 a.m. in the Dillingham/Katmai Room on Tuesday, December 3, 2019 and continue through Saturday, December 7, 2019. The Community Engagement Committee will meet on Monday, December 2, 2019 in the Fireweed Room from 1 p.m. to 5 p.m. The Charter Halibut Management Committee will meet on Tuesday, December 3, 2019 in the Birch/Willow Room from 8 a.m. to 3 p.m. The Enforcement Committee will meet on Tuesday, December 3, 2019 in the Fireweed Room from 10:30 a.m. to 1 p.m.

Agenda

Monday, December 2, 2019 Through Tuesday, December 10, 2019

Council Plenary Session: The agenda for the Council's plenary session will include the following issues. The Council may take appropriate action on any of the issues identified.

1. Executive Director's Report

2. NMFS Management Report

3. NOAA General Counsel Report

4. NOAA Enforcement Report

5. ADF&G Report (including Biennial Halibut Subsistence report)

6. USCG Report

7. USFWS Report

8. IPHC Report

9. BSAI Groundfish Specifications

10. GOA Groundfish Specifications

11. 2020 Charter Halibut Management Measures for Areas 2C and 3A

12. BSAI Parallel Waters—Final Action

13. Crab Partial Deliveries—Final Action

14. St Matthew Blue King Crab Rebuilding Plan

15. Central Gulf of Alaska Rockfish Reauthorization

16. Non-Guided Halibut Rental Boat Registration

17. Halibut abundance-based management workplan

18. Sablefish Discards

19. Aleutian Islands Community Follow Up

20. Staff Tasking

The Advisory Panel will address Council agenda items 9 through 20, with the exception of item 17, which is Council only.

The SSC agenda will include the following issues:

1. BSAI Groundfish Specifications

2. GOA Groundfish Specifications

3. St. Matthew Blue King Crab Rebuilding Plan

4. Central GOA Rockfish Reauthorization

5. Comments on National Standard 1 Technical Guidance on ABC control rule provisions

In addition to providing ongoing scientific advice for fishery management decisions, the SSC functions as the Council's primary peer review panel for scientific information, as described by the Magnuson-Stevens Act section 302(g)(1)(e), and the National Standard 2 guidelines (78 FR 43066). The peer review process is also deemed to satisfy the requirements of the Information Quality Act, including the OMB Peer Review Bulletin guidelines.

The Community Engagement Committee will review existing Council engagement strategies and practices to develop recommendations to improve Council engagement with rural and Alaska Native communities. The Charter Halibut Management Committee will discuss 2020 Charter Halibut Measures for Areas 2C and 3A and the non-guided halibut rental boat registration analysis. The Enforcement Committee will discuss the non-guided halibut rental boat registration analysis, and other business.

The Agendas are subject to change, and the latest versions will be posted at http://www.npfmc.org/.

Public Comment

Public comment letters will be accepted and should be submitted either electronically at: meetings.npfmc.org or through the mail: North Pacific Fishery Management Council, 605 W 4th Ave., Suite 306, Anchorage, AK 99501-2252. Deadline for comments is November 29, 2019, at 12 p.m.

Special Accommodations

These meetings are physically accessible to people with disabilities. Requests for sign language interpretation or other auxiliary aids should be directed to Maria Davis at (907) 271-2809 at least 7 working days prior to the meeting date.

Authority: 16 U.S.C. 1801 et seq.

Dated: November 12, 2019.
Tracey L. Thompson,
Acting Deputy Director, Office of Sustainable Fisheries, National Marine Fisheries Service.

[FR Doc. 2019-24787 Filed 11-14-19; 8:45 am]

BILLING CODE 3510-22-P